DEPARTMENT OF STATE

[Public Notice: 10359]

Notice of Public Meeting

The Department of State will conduct an open meeting at 10:00 a.m. on Monday, April 16th, 2018, in Room 7M15-01, United States Coast Guard Headquarters, 2703 Martin Luther King Jr. Ave. SE, Washington, DC 20593-7213. The primary purpose of the meeting is to prepare for the 105th session of the International Maritime Organization's (IMO) Legal Committee to be held at the IMO Headquarters, United Kingdom, April 23-25, 2018.

The agenda items to be considered include:

—Facilitation of the entry into force and harmonized interpretation of the 2010 HNS Protocol

—Provision of financial security in case of abandonment of seafarers, and shipowners' responsibilities in respect of contractual claims for personal injury to, or death of seafarers, in light of the progress of amendments to the ILO Maritime Labour Convention, 2006

—Fair treatment of seafarers in the event of a maritime accident

—Advice and guidance in connection with the implementation of IMO instruments

—Piracy

—Matters arising from the 118th and 119th regular sessions of the Council, the twenty-ninth extraordinary session of the Council and the thirtieth regular session of the Assembly

—Technical cooperation activities related to maritime legislation

—Review of the status of conventions and other treaty instruments emanating from the Legal Committee

—Work programme

—Election of officers

—Any other business

Members of the public may attend this meeting up to the seating capacity of the room. Upon request to the meeting coordinator, members of the public may also participate via teleconference, up to the capacity of the teleconference phone line. To access the teleconference line, participants should call (202) 475-4000 and use Participant Code: 887 809 72. To facilitate the building security process, and to request reasonable accommodation, those who plan to attend should contact the meeting coordinator, Stephen Hubchen, by email at stephen.k.hubchen@uscg.mil, by phone at (202) 372-1198, or in writing at 2703 Martin Luther King Jr. Ave. SE, Stop 7509, Washington DC 20593-7509 not later than April 10, 2018, 4 business days prior to the meeting. Requests made after April 10, 2018 might not be able to be accommodated, and same day requests will not be accommodated due to the building's security process. Please note that due to security considerations, two valid, government issued photo identifications must be presented to gain entrance to the Coast Guard Headquarters. Coast Guard Headquarters is accessible by taxi, public transportation, and privately owned conveyance (upon request).

Additional information regarding this and other IMO public meetings may be found at: www.uscg.mil/imo.

Joel C. Coito,
Coast Guard Liaison Officer, Office of Ocean and Polar Affairs, Department of State.

[FR Doc. 2018-05480 Filed 3-16-18; 8:45 am]

BILLING CODE 4710-09-P